NATIONAL FOUNDATION ON THE ARTS AND THE HUMANITIES

National Endowment for the Arts; Arts Advisory Panel

Pursuant to Section 10(a)(2) of the Federal Advisory Committee Act (Pub. L. 92-463), as amended, notice is hereby given that seven meetings of the Arts Advisory Panel to the National Council on the Arts will be held at the Nancy Hanks Center, 1100 Pennsylvania Avenue, NW., Washington, DC, 20506 as follows (ending times are approximate):

Partnership/National Services (application review): May 24, 2006 from Room 710. This meeting, which will be by teleconference from 3 p.m. to 4 p.m. Eastern Time, will be closed.

Media Arts, Panel A (application review): May 31-June 2, 2006 in Room 716. This meeting, from 9 a.m. to 5:30 p.m. on May 31st, from 9 a.m. to 6 p.m. on June 1st, and from 9 a.m. to 1 p.m. on June 2nd, will be closed.

Media Arts, Panel B (application review): June 2, 2006 in Room 716. This meeting, from 1 p.m. to 4 p.m., will be closed.

AccessAbility (application review): June 7, 2006 from Room 710. This meeting, which will be by teleconference from 2 p.m. to 3:30 p.m., will be closed.

Folk and Traditional Arts (application review): June 8-9, 2006 in Room 716. This meeting, from 9 a.m. to 6:30 p.m. on June 8th and from 9 a.m. to 6 p.m. on June 9th, will be closed.

Local Arts Agencies (application review): June 14, 2006 in Room 730. This meeting, from 9 a.m. to 5:45 p.m., will be closed.

Visual Arts (application review): June 27-30, 2006 in Room 716. This meeting, from 9 a.m. to 5:30 p.m. on June 27th, 28th, and 29th, and from 9 a.m. to 3 p.m. on June 30th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, (202) 682-5532, TDY-TDD 202/682-5496, at least seven (7) days prior to the meeting.

Further information with reference to these meetings can be obtained from Ms. Kathy Plowitz-Worden, Office of Guidelines & Panel Operations, National Endowment for the Arts, Washington, DC 20506, or call (202) 682-5691.

Dated: May 1, 2006.
Kathy Plowitz-Worden,
Panel Coordinator, Panel Operations, National Endowment for the Arts.

[FR Doc. E6-6928 Filed 5-5-06; 8:45 am]

BILLING CODE 7537-01-P